NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 5, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-004

1. Applicant: Heather Liwanag, California Polytechnic State University, Department of Biological Sciences, 1 Grand Avenue, San Luis Obispo, CA 93407-0401.

Activity for Which Permit is Requested: Import into USA. The applicant seeks an Antarctic Conservation Act permit to import samples comprising oral swabs, rectal swabs, and serum from 36 adult Weddell seals (Leptonychotes weddellii). The samples were collected in 2019 and 2020 by the New Zealand Antarctic program as part of a collaborative disease investigation study. The samples complement additional samples collected by the applicant in 2017 and 2019 under ACA permit 2018-013M#1. The previously collected samples have been stored at McMurdo Station, Antarctica since collection. The samples will assist in investigating the cause of lesions observed in seals during prior fieldwork.

Location: None.

Dates of Permitted Activities: September 01, 2024-August 31, 2025.

Permit Application: 2025-005

2. Applicant: Zheng Wang, Center for Biomolecular Science and Engineering, US Naval Research Laboratory, 4555 Overlook Ave. SW, Washington, DC 20375.

Activity for Which Permit is Requested: Introduce Non-Indigenous Species into Antarctica, Import into USA, Export from USA. The applicant seeks an Antarctic Conservation Act permit to introduce desiccated spores of four Aspergillus niger strains in Antarctica in order to study the biological effects of cosmic ionizing radiation. The desiccated spores are incapable of growing or dispersing and will be plated onto quartz coupons and glued into a box, which would be assembled in the USA and shipped to McMurdo Station, Antarctica. The samples will be loaded onto a payload of a NASA Long Duration Balloon to be flown over the Antarctic continent at an altitude of 115,000-160,000 ft for approximately 8-15 days. Anticipated flight window would be in December, 2024. Upon termination of the flight, the payload would be recovered from the field and transported back to McMurdo Station. The box containing the desiccated spores would then be shipped back to the USA for analysis.

Location: McMurdo Station, Antarctica.

Dates of Permitted Activities: October 15, 2024-April 1, 2025.

Permit Application: 2025-006

3. Applicant: Paul Ponganis, CMBB, Scripps Institution of Oceanography, UCSD, La Jolla, CA 92093-0204.

Activity for Which Permit is Requested: Take, Harmful Interference, Enter Antarctic Specially Protected Area, Import into USA. The applicant requests an Antarctic Conservation Act permit authorizing take and harmful interference associated with ongoing research examining the oxygen transport systems of emperor penguins (Aptenodytes forsteri) in Antarctica. The applicant proposes capturing up to 35 non-breeding or sub-adult penguins from the McMurdo Sound region or, if necessary, in Cape Washington (ASPA 173). The applicant will access ASPA 173 by fixed-wing aircraft in accordance with the ASPA management plan. Throughout the course of the physiology study, penguins will be kept captive on the sea ice, but will be allowed to dive and forage at will. Research activities involve the administration of general anesthesia and the attachment of instrumentation to measure oxygen levels, heart rate/stroke rate, and dive depth/activity. In some penguins, blood samples may be collected during dives. RNA will be isolated from up to 20 samples and imported into the USA. At the end of each dive study, equipment will be removed, and the penguins will be released at the McMurdo Sea ice edge, where they will be able to rejoin nearby colonies.

Location: McMurdo Sound, ASPA 173-Cape Washington and Silverfish Bay.

Dates of Permitted Activities: October 1, 2024-December 20, 2024.

Kimiko S. Bowens-Knox,
Program Analyst, Office of Polar Programs.

[FR Doc. 2024-14705 Filed 7-3-24; 8:45 am]

BILLING CODE 7555-01-P